DEPARTMENT OF COMMERCE

National Oceanic and Atmospheric Administration

RIN 0648-XE159

Mid-Atlantic Fishery Management Council (MAFMC); Public Meeting

AGENCY: National Marine Fisheries Service (NMFS), National Oceanic and Atmospheric Administration (NOAA), Commerce.

ACTION: Notice; public meeting.

SUMMARY: The Mid-Atlantic Fishery Management Council's (MAFMC's) Summer Flounder, Scup, and Black Sea Bass Monitoring Committee will hold a public meeting.

DATES: The meeting will be held on Wednesday, Sept. 23, 2015, from 9 a.m. to 12 p.m. For agenda details, see SUPPLEMENTARY INFORMATION.

ADDRESSES: The meeting will be held via webinar with a telephone-only connection option. Webinar and telephone-only connection details are available at: http://www.mafmc.org.

Council address: Mid-Atlantic Fishery Management Council, 800 N. State Street, Suite 201, Dover, DE 19901; telephone: (302) 674-2331 or on their Web site at www.mafmc.org.

FOR FURTHER INFORMATION CONTACT: Christopher M. Moore, Ph.D., Executive Director, Mid-Atlantic Fishery Management Council, telephone: (302) 526-5255.

SUPPLEMENTARY INFORMATION: The MAFMC's Summer Flounder, Scup, and Black Sea Bass Monitoring Committee (Committee) has initiated an evaluation of several current management measures for the summer flounder, scup, and black sea bass commercial fisheries (e.g., minimum commercial fish sizes, minimum mesh sizes, seasonal possession limits triggering the minimum mesh sizes, other gear restrictions, and exemption programs). The Committee will meet via webinar to review initial analyses evaluating the effectiveness of the current regulations, identify additional work to be completed, and potentially begin development of recommendations to the MAFMC.

Special Accommodations

The meeting is physically accessible to people with disabilities. Requests for sign language interpretation or other auxiliary aid should be directed to M. Jan Saunders, (302) 526-5251, at least 5 days prior to the meeting date.

Dated: September 1, 2015.
Tracey L. Thompson,
Acting Deputy Director, Office of Sustainable Fisheries, National Marine Fisheries Service.

[FR Doc. 2015-21991 Filed 9-3-15; 8:45 am]

BILLING CODE 3510-22-P